DEPARTMENT OF THE INTERIOR

Bureau of Land Management

[ID-200-1120-PH]

Notice of November Resource Advisory Council Meeting To Be Held in Twin Falls District, ID

AGENCY: Bureau of Land Management, Interior.

SUMMARY: This notice announces the intent to hold a Resource Advisory Council (RAC) meeting in the Twin Falls District of Idaho on Tuesday, November 29, 2005. The meeting will be held in the Cedar Conference Room at the Red Lion Canyon Springs Hotel, 1357 Blue Lakes Boulevard North, in Twin Falls, Idaho.

SUPPLEMENTARY INFORMATION: The Twin Falls District Resource Advisory Council consists of the standard fifteen members residing throughout south central Idaho. Meeting agenda items will include multiple sub-group reports concerning energy, Blaine County Airport Relocation, and ongoing litigation. A significant portion of the session will also include familiarization for new incoming members. Other potential topics may also arise and a public comment period will be held following lunch.

FOR FURTHER INFORMATION CONTACT: Sky Buffat, Twin Falls District, Idaho, 2536 Kimberly Road, Twin Falls, Idaho, 83301, (208) 735-2068.

Dated: October 11, 2005.
Howard Hedrick,
Twin Falls District Manager.

[FR Doc. 05-20688 Filed 10-14-05; 8:45 am]

BILLING CODE 4310-GG-M